DEPARTMENT OF AGRICULTURE

Forest Service

Notice of Proposed New Fee Sites

AGENCY: Forest Service, Agriculture (USDA).

ACTION: Notice of proposed new fee sites.

SUMMARY: The Lincoln National Forest is proposing to charge new fees at four recreation sites listed in Supplementary Information of this notice. Funds from fees would be used for operation, maintenance, and improvements of these recreation sites. An analysis of nearby developed recreation sites with similar amenities shows the proposed fees are reasonable and typical of similar sites in the area.

DATES: If approved, the new fee would be implemented no earlier than six months following the publication of this notice in the Federal Register.

ADDRESSES: Lincoln National Forest, 3463 Las Palomas, Alamogordo, New Mexico 88310.

FOR FURTHER INFORMATION CONTACT: LaTasha Wauneka, Recreation Staff Assistant, 575-682-5320 or latasha.wauneka@usda.gov.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

As part of this proposal, Sitting Bull Falls group picnic area is proposed at $50 per day. A $5 day-use fee per vehicle at Schoolhouse Picnic, Cedar Creek Picnic, and Trestle Recreation Area would be added to improve services and facilities. A new state-wide New Mexico annual pass for day use sites is being proposed for $40. The full suite of Interagency passes would be honored.

New fees would provide increased visitor opportunities as well as increased staffing to address operations and maintenance needs and enhance customer service. Once public involvement is complete, these new fees will be reviewed by a Recreation Resource Advisory Committee prior to a final decision and implementation.

Advanced reservations for the group picnic area will be available through www.recreation.gov or by calling 1-877-444-6777. The reservation service charges an $8.00 fee for reservations.

Dated: December 21, 2021.
Sandra Watts,
Acting Associate Deputy Chief, National Forest System.

[FR Doc. 2021-28138 Filed 12-27-21; 8:45 am]

BILLING CODE 3411-15-P